DEPARTMENT OF STATE

[Public Notice: 5716]

Title: 60-Day Notice of Proposed Information Collection: Forms DS-2053, DS-3024, DS-3025, and DS-3026; Medical Examination for Immigrant or Refugee Applicant; OMB Control Number 1405-0113

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

Title of Information Collection: Medical Examination for Immigrant or Refugee Applicant.

OMB Control Number: 1405-0113.

Type of Request: Extension of a Currently Approved Collection.

Originating Office: Bureau of Consular Affairs, Visa Services (CA/VO).

Form Number: DS-2053, DS-3024, DS-3025, DS-3026.

Respondents: Immigrant visa and refugee applicants.

Estimated Number of Respondents: 630,000 per year.

Estimated Number of Responses: 630,000 per year.

Average Hours per Response: 1 hour.

Total Estimated Burden: 630,000 hours annually.

Frequency: Once per application.

Obligation to Respond: Required to Obtain Benefit.

DATES: The Department will accept comments from the public up to 60 days from March 9, 2007.

ADDRESSES: You may submit comments by any of the following methods:

• E-mail: VisaRegs@state.gov (Subject line must read OMB 1405-0113 Reauthorization).

• Mail (paper, disk, or CD-ROM submissions): Chief, Legislation and Regulations Division, Visa Services—OMB 1405-0113 Reauthorization, 2401 E Street, NW., Washington DC 20520-30106.

• Fax: (202) 663-3898

You must include the DS form number (if applicable), information collection title, and OMB control number in any correspondence.

FOR FURTHER INFORMATION CONTACT: Direct requests for additional information regarding the collection listed in this notice, including requests for copies of the proposed information collection and supporting documents, to Andrea Lage of the Office of Visa Services, U.S. Department of State, 2401 E Street, NW., L-603, Washington, DC 20522, who may be reached at (202) 663-1221 or lageab@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: INA Section 221(d) requires that prior to the issuance of an immigrant visa the applicant undergo a physical and mental examination. The results of the medical examination are used to determine the alien's eligibility for such a visa under INA 212(a)(1). INA Section 412(b)(4)(B) requires that the United States Government “provide for the identification of refugees who have been determined to have medical conditions affecting the public health and requiring treatment.” Form DS-2053, Medical Examination for Immigrant or Refugee Applicant; Form DS-3024, Chest X-Ray and Classification Worksheet; Form DS-3025, Vaccination Documentation Worksheet; and Form DS-3026, Medical History and Physical Examination Worksheet, are designed to record the results of the medical examination. The panel physician performs the medical examination of the applicant and completes the forms.

Methodology: The medical forms are sent to the applicant in the applicant's package. The applicant takes the forms to the panel physician to use during the medical examination. The panel physician completes the medical examination and fills out the forms. The forms are then submitted in hard copy to the consular officer for processing.

Dated: February 21, 2007.
Stephen A. Edson,
Deputy Assistant Secretary, Bureau of Consular Affairs, Department of State.

[FR Doc. E7-4321 Filed 3-8-07; 8:45 am]

BILLING CODE 4710-06-P